DEPARTMENT OF VETERANS AFFAIRS

Publication of Choice Act Section 201 Independent Assessments

AGENCY: Department of Veterans Affairs.

ACTION: Notice.

SUMMARY: The Department of Veterans Affairs (VA), the Commission on Care, the Senate Veterans' Affairs Committee, and the House Veterans' Affairs Committee have received the final report on the independent assessment of VA health care processes as required under Section 201 of the Veterans Access, Choice, and Accountability Act of 2014 (VACAA). This Notice announces the public release of the report, entitled Independent Assessment of the Health Care Delivery Systems and Management Process of the Department of Veterans Affairs (Independent Assessment Report), on a VA Web site.

ADDRESSES: The complete copy of the final independent assessment is available on the following Web site: http://www.va.gov/opa/choiceact/factsheets_and_details.asp.

FOR FURTHER INFORMATION CONTACT: Dr. Regan Crump, Director, Office of Strategic Planning & Analysis, Veterans Health Administration, 810 Vermont Avenue NW., Washington, DC 20420, Telephone: (202) 461-7096 (This is not a toll-free number.)

SUPPLEMENTARY INFORMATION: VA entered into a contract with MITRE Corporation's Centers for Medicare and Medicaid Services' Alliance to Modernize Healthcare (CAMH), a private Federally Funded Research and Development Center (FFRDC) focused on large-scale transformation of health care systems in both the public and private sectors. CAMH and its partners have interviewed hundreds of VA and Veterans Health Administration (VHA) staff and visited 87 medical facilities across 30 states, Washington, DC, and Puerto Rico, as they conducted a comprehensive independent assessment of the hospital care, medical services, and other health care processes across VA medical facilities. VA has provided access to its data, systems, and records by sharing approximately 500 data sets, reports, and other critical documentation to assist with CAMH's comprehensive analysis.

The Commission on Care, an independent group of health care, business, and government experts established by VACAA, will now review this report and undertake a comprehensive evaluation and assessment of Veterans' access to VA health care and strategically examine how best to organize VHA to enable the delivery of high-quality and timely care. The Commission will submit a report of its findings and recommendations early in 2016 to the President of the United States through the Secretary of Veterans Affairs. VA will be required to implement each recommendation that the President considers feasible, advisable, and able to be implemented without further legislation.

Signing Authority

The Secretary of Veterans Affairs, or designee, approved this document and authorized the undersigned to sign and submit the Independent Assessment Report to the Office of the Federal Register for publication electronically as an official document of the Department of Veterans Affairs. Robert L. Nabors II, Chief of Staff, Department of Veterans Affairs, approved this document on September 15, 2015, for publication.

Dated: September 15, 2015.
William F. Russo,
Acting Director, Office of Regulation Policy & Management, U.S. Department of Veterans Affairs.

[FR Doc. 2015-23449 Filed 9-17-15; 8:45 am]

BILLING CODE 8320-01-P